DEPARTMENT OF ENERGY

Federal Energy Regulatory Commission

[Docket No. RP01-46-002]

Carnegie Interstate Pipeline Company; Notice of Compliance Filing

January 11, 2001.

Take notice that on January 8, 2001, Carnegie Interstate Pipeline Company (CIPCO), tendered for filing as part of its FERC Gas Tariff, Original Volume No. 1, the following revised tariff sheets, with an effective date of November 1, 2000:

Substitute first Revised Tariff Sheet No. 116

CIPCO states that this tendered sheet is filed in compliance with Order No. 587-L, issued in Docket No. RM96-1-014 by the Commission on June 30, 2000 and implements 18 CFR 284.(c)(ii), regarding the netting and trading of imbalances on CIPCO's system, and further responds to the Commission's directive in its Order of December 21, 2000, herein.

CIPCO states that a copy of the filing is being served on each of CIPCO's jurisdictional customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1422 Filed 1-17-01; 8:45 am]

BILLING CODE 6717-01-M